DEPARTMENT OF HOMELAND SECURITY

Coast Guard

33 CFR Part 117

[Docket No. USCG-2014-0946]

Drawbridge Operation Regulations; Housatonic River, Stratford, CT

AGENCY: Coast Guard, DHS.

ACTION: Notice of deviation from drawbridge regulation.

SUMMARY: The Coast Guard has issued a temporary deviation from the operating schedule that governs the Metro North (Devon) Bridge, across the Housatonic River, mile 3.9, at Stratford, Connecticut. This deviation is necessary to facilitate repairs to the miter plates and headlocks at the bridge. This deviation allows the bridge to remain in the closed position for 45 days to facilitate the repairs.

DATES: This deviation is effective from November 5, 2014 through December 19, 2014.

ADDRESSES: The docket for this deviation, [USCG-2014-0946] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this deviation, call or email Ms. Judy Leung-Yee, Project Officer, First Coast Guard District, telephone (212) 668-7165, judy.k.leung-yee@uscg.mil. If you have questions on viewing the docket, call Cheryl Collins, Program Manager, Docket Operations, telephone (202) 366-9826.

SUPPLEMENTARY INFORMATION: The Metro North (Devon) Bridge across the Housatonic River, mile 3.9, has a vertical clearance in the closed position of 19 feet at mean high water and 25 feet at mean low water. The existing drawbridge operation regulations are listed at 33 CFR 117.207(b).

The Housatonic River is transited by commercial barges and seasonal recreational vessel traffic.

The bridge owner, Metro North, requested a bridge closure for 45 days to facilitate repairs to the miter plates and headlocks at the bridge.

Under this temporary deviation, the Metro North (Devon) Bridge may remain in the closed position from 10 a.m. on November 5, 2014 through 2 p.m. on December 19, 2014; except that, the draw shall open on Fridays, Saturdays and Sundays during the repair period, after at least a 24 hour advance notice is given.

There are no alternate routes for vessel traffic; however, vessels that can pass under the closed draw during this closure may do so at any time. The bridge may be opened in the event of an emergency.

The Coast Guard will inform the users of the waterways through our Local and or Broadcast Notices to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: October 24, 2014.
C.J. Bisignano,
Supervisory Bridge Management Specialist, First Coast Guard District.

[FR Doc. 2014-26093 Filed 11-3-14; 8:45 am]

BILLING CODE 9110-04-P